SUSQUEHANNA RIVER BASIN COMMISSION

Grandfathering Registration Notice

AGENCY: Susquehanna River Basin Commission.

ACTION: Notice.

SUMMARY: This notice lists Grandfathering Registration for projects by the Susquehanna River Basin Commission during the period set forth in DATES.

DATES: August 1-31, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists GF Registration for projects, described below, pursuant to 18 CFR part 806, subpart E, for the time period specified above:

1. Lehigh White Cement Company, LLC—York Plant, GF Certificate No. GF-202508300, West Manchester Township and West York Borough, York County, Pa.; combined withdrawals from Wells 1 and 2 and consumptive use; Issue Date: August 19, 2025.

2. Ward Manufacturing, LLC—Blossburg Facility, GF Certificate No. GF-202508301, Blossburg Borough, Tioga County, Pa.; Water Tower Well, Johnson Creek, and consumptive use; Issue Date: August 19, 2025.

3. Pennsylvania—American Water Company—Forest City Service Territory, GF Certificate No. GF-202508302, Clifford Township, Susquehanna County, and Clinton Township, Wayne County, Pa.; combined withdrawals from the Lackawanna River near Stillwater Lake Reservoir and the Lackawanna River at the Forest City Water Treatment Plant, Brace Brook Reservoir, and Roy Brook Dam; Issue Date: August 19, 2025.

4. Cleveland-Cliffs Steel LLC—Cleveland-Cliffs Steelton LLC, GF Certificate No. GF-202508303, Steelton Borough, Dauphin County, Pa.; Susquehanna River and consumptive use; Issue Date: August 19, 2025.

Authority: Public Law 91-575, 84 Stat. 1509 et seq., 18 CFR parts 806 and 808.

Dated: September 10, 2025.
Jason E. Oyler,
General Counsel and Secretary to the Commission.

[FR Doc. 2025-17669 Filed 9-11-25; 8:45 am]

BILLING CODE 7040-01-P